DEPARTMENT OF COMMERCE

National Oceanic and Atmospheric Administration

RIN 0648-XC618

Mid-Atlantic Fishery Management Council (MAFMC); Public Meeting

AGENCY: National Marine Fisheries Service (NMFS), National Oceanic and Atmospheric Administration (NOAA), Commerce.

ACTION: Notice of public meeting.

SUMMARY: Public hearing for the Mid-Atlantic Fishery Management Council's (Council) Omnibus Recreational Fishery Accountability Amendment.

DATES: Written comments must be received on or before 5 p.m., EST, on May 15, 2013. The public hearings will be held on April 29, 30, May 1, 2, and 3, 2013 during this comment period. All public hearings will be held from 7 p.m. until 9 p.m. For details on hearing times and locations, see ADDRESSES.

ADDRESSES: The hearings will be held, in chronological order, as follows: April 29, 2013 at the Crowne Plaza at the Crossings, 801 Greenwich Ave., Warwick, RI 02886, (401) 732-6000; April 30, 2013 at Hyatt Place Long Island/East End, 431 East Main St., Riverhead, NY 11901, (631) 574-8008; May 1 at the Holiday Inn, 151 Route 72 East, Manahawkin, NJ 08050, (609) 481-6100, May 2 at the Clarion Fontainebleau Hotel, 10100 Coastal Highway, Ocean City, MD 21842, (800) 638-2100, and May 3 at the Hilton Virginia Beach Oceanfront, 3001 Atlantic Ave., Virginia Beach, VA 23451, (757) 213-3000. Written comments should be mailed to the Council office at the address below and marked “RECREATIONAL AM AMENDMENT.” The public hearing document can be obtained by contacting the Council at the address below or at the Council's Web site: http://www.mafmc.org.

Council address: Mid-Atlantic Fishery Management Council, 800 N. State Street, Suite 201, Dover, DE 19901; telephone: (302) 674-2331.

FOR FURTHER INFORMATION CONTACT: Christopher M. Moore, Ph.D., Executive Director, Mid-Atlantic Fishery Management Council, 800 N. State Street, Suite 201, Dover, DE 19901; telephone: (302) 526-5255.

SUPPLEMENTARY INFORMATION: If approved, the Omnibus Recreational Accountability Amendment (AM) will modify accountability measures for the recreational Atlantic mackerel, bluefish, summer flounder, scup, and black sea bass fisheries. The Amendment evaluates AMs that are alternatives to the current pound-for-pound reductions and in-season closures. The Amendment considers AMs that take into account the biological cost of a catch overage and the generally uncertain nature of recreational fishery catch estimates and management controls. A draft Environmental Assessment (EA) that analyzes the proposed actions is available by contacting the Council office and at the Council's Web site: http://www.mafmc.org after April 15, 2013.

Special Accommodations

The meetings are physically accessible to people with disabilities. Requests for sign language interpretation or other auxiliary aids should be directed to M. Jan Saunders at the Mid-Atlantic Council Office, (302) 526-5251, at least 5 days prior to the meeting date.

Dated: April 9, 2013.
Tracey L. Thompson,
Acting Deputy Director, Office of Sustainable Fisheries, National Marine Fisheries Service.

[FR Doc. 2013-08627 Filed 4-11-13; 8:45 am]

BILLING CODE 3510-22-P